DEPARTMENT OF HOMELAND SECURITY

Coast Guard

[Docket No. USCG-2018-0878]

Commercial Fishing Safety Advisory Committee

AGENCY: U.S. Coast Guard, Department of Homeland Security.

ACTION: Notice of Federal Advisory Committee Meeting.

SUMMARY: The Commercial Fishing Safety Advisory Committee will meet in Seattle, Washington to discuss various issues relating to safety in the commercial fishing industry. All meetings will be open to the public.

DATES:

Meetings: The Committee will meet on Thursday, November 15 from 10 a.m. to 5 p.m., and on Friday, November 16, 2018 from 8 a.m. to 5 p.m. The meeting may close early if all business is finished.

Comments and supporting documentation: To ensure your comments are reviewed by Committee members before the meetings, submit your written comments no later than November 7, 2018.

ADDRESSES: The Committee will meet at the United States Federal Center South at 4735 East Marginal Way South, Seattle, Washington, 98134.

If you are planning to attend the meeting, you will be required to pass through a security checkpoint. You will be required to show valid government identification. Please arrive at least 30 minutes before the planned start of the meeting in order to pass through security.

For information on facilities or services for individuals with disabilities or to request special assistance at the meeting, contact the person listed in the FOR FURTHER INFORMATION CONTACT section, as soon as possible.

Instructions: You are free to submit comments at any time, including orally at the meetings, but if you want Committee members to review your comments before the meeting, please submit your comments no later than November 7, 2018. We are particularly interested in the comments on the issues in the “Agenda” section below. You must include “Department of Homeland Security” and the docket number USCG-2018-0878. Comments received will be posted without alteration at http://www.regulations.gov, including any personal information provided. For more information about the privacy and docket, review the Privacy and Security Notice for the Federal Docket Management System at https://regulations.gov/privacyNotice.

Docket Search: For access to the docket to read documents or comments related to this notice, go to http://www.regulations.gov, and use the docket number in the “SEARCH” box, press Enter, and then click on the item you wish to view.

FOR FURTHER INFORMATION CONTACT: Mr. Joseph Myers, Alternate Designated Federal Officer for the Commercial Fishing Safety Advisory Committee, Commandant (CG-CVC-3), United States Coast Guard Headquarters, 2703 Martin Luther King Junior Avenue, South East, Mail Stop 7501, Washington, DC 20593-7501; telephone 202-372-1249, facsimile 202-372-8385, electronic mail: joseph.d.myers@uscg.mil.

SUPPLEMENTARY INFORMATION: Notice of this meeting is in compliance with the Federal Advisory Committee Act, Title 5 U.S.C., Appendix.

The Commercial Fishing Safety Advisory Committee is authorized by Title 46 United States Code Section 4508. The Committee's purpose is to provide advice and recommendations to the United States Coast Guard and the Department of Homeland Security on matters relating to the safe operation of commercial fishing industry vessels.

Agenda

The Commercial Fishing Safety Advisory Committee will meet to review and discuss topics contained in the agenda.

Day 1

The meeting will include, reports, presentations, discussions, as follows:

(1) 10 a.m. Introductions, swearing-in of new members, election of Chair and Vice-Chair.

(2) Status of Commercial Fishing Vessel Safety Rulemaking projects resulting from requirements set forth in the U.S. Coast Guard Authorization Act of 2010 and the U.S. Coast Guard and Maritime Transportation Act of 2012.

(3) U.S. Coast Guard District Commercial Fishing Vessel Safety Coordinator reports on activities and initiatives.

(4) Industry Updates.

(5) U.S. Coast Guard/National Oceanic Atmospheric Administration National Marine Fisheries Service, Memorandum of Agreement Charter update.

(6) Presentation and discussion on casualties, by regions and fisheries, and an update on safety and risk-reduction-related projects by the National Institute for Occupational Safety and Health.

(7) Discussion on Fire Extinguishers and Survival Craft.

(8) Public Comment Period.

(9) Adjournment of meeting.

Day 2

The meeting will primarily be dedicated to information passing to include the topics:

(1) U.S. Coast Guard/National Institute for Occupational Safety and Health Training and research grant programs.

(2) Update on Training Requirements for Operators 46 U.S.C. 4502(g) and 4502(g)(3).

(3) New Construction option for vessels 50-79 feet under Title 46 U.S.C section 4503.

(4) STCW-F International Maritime Organization summary update.

(5) Automatic and Identification System and “Fish Pingers”.

(6) Global Maritime Distress Safety System update.

(7) Discussion on Presidential Executive Orders 13771 and 13783

De-Regulation Project.

(8) Discussion and Final comments from public.

(9) Discussion and motions from the Committee.

(10) Future plans and goals for the Committee.

(11) Next Committee meeting, plans and recommended location.

(12) Comments on the meeting from Committee members.

(13) Adjournment of meeting.

Public oral comment periods will be held during the meeting after each presentation and at the end of each day. Speakers are requested to limit their comments to 3 minutes. Please note that the public oral comment periods may end before the prescribed ending time following the last call for comments. Contact the individual listed in the FOR FURTHER INFORMATION CONTACT section above to register as a speaker.

A copy of available meeting documentation will be posted to the docket, as noted above, and at https://www.dco.uscg.mil/Our-Organization/Assistant-Commandant-for-Prevention-Policy-CG-5P/Inspections-Compliance-CG-5PC-/Commercial-Vessel-Compliance/Fishing-Vessel-Safety-Division/cfsac/ by October 29, 2018. Post-meeting documentation will be posted to the website, noted above, within 30 days after the meeting, or as soon as possible.

Dated: October 17, 2018.
Jennifer F. Williams,
Captain, U.S. Coast Guard, Director of Inspections and Compliance.

[FR Doc. 2018-23061 Filed 10-22-18; 8:45 am]

BILLING CODE 9110-04-P